DEPARTMENT OF HEALTH AND HUMAN SERVICES

National Institutes of Health

National Institute on Alcohol Abuse and Alcoholism; Notice of Meeting

Pursuant to section 10(d) of the Federal Advisory Committee Act, as amended (5 U.S.C. Appendix 2), notice is hereby given of a meeting of the Board of Scientific Counselors, NIAAA.

The meeting will be open to the public as indicated below, with attendance limited to space available. Individuals who plan to attend and need special assistance, such as sign language interpretation or other reasonable accommodations, should notify the Contact Person listed below in advance of the meeting.

The meeting will be closed to the public as indicated below in accordance with the provisions set forth in section 552b(c)(6), Title 5 U.S.C., as amended for the review, disucssion, and evaluation of individual intramural programs and projects conducted by the National Institute on Alcohol Abuse and Alcoholism, including consideration of personnel qualifications and performance, and the competence of individual investigators, the disclosure of which would constitute a clearly unwarranted invasion of personal privacy.

Name of Committee: Board of Scientific Counselors, NIAAA.

Date: September 22-23, 2005.

Open: September 22, 2005, 7:45 a.m. to 8 a.m.

Agenda: To review and evaluate Board of Scientific Counselors Administrative Procedures.

Place: National Institutes of Health, National Institute on Alcohol Abuse & Alcoholism, 5625 Fishers Lane, 5N13, Rockville, MD 20892.

Closed: September 22, 2005, 8 a.m. to 5 p.m.

Agenda: To review and evaluate sections of the Laboratory of Membrane, Biochemistry, and Biophysics (LMBB); the Laboratory of Metabolic Control (LMC); and the Laboratory of Neurogenetics (LNG).

Place: National Institutes of Health, National Institute on Alcohol Abuse & Alcoholism, 5625 Fishers Lane, 5N13, Rockville, MD 20892.

Closed: September 23, 2005, 8 a.m. to 4 p.m.

Agenda: To review and evaluate sections of the Laboratory of Membrane, Biochemistry, and Biophysics (LMBB); the Laboratory of Metabolic Control (LMC); and the Laboratory of Neurogenetics (LNG).

Place: National Institutes of Health, National Institute on Alcohol Abuse & Alcoholism, 5625 Fishers Lane, 5N13, Rockville, MD 20892.

Contact Person: Brenda L. Sandler, Chief, Administrative Services Branch, NIAAA, 5635 Fishers Lane, MSC 9304, Bethesda, MD 20892-9304, (301) 402-9386, sandlerb@niaaa.nih.gov.

Any interested person may file written comments with the committee by forwarding the statement to the Contact Person listed on this notice. The statement should include the name, address, telephone number and when applicable, the business or professional affiliation of the interested person.

(Catalogue of Federal Domestic Assistance Program Nos. 93.271, Alcohol Research Career Development Awards for Scientists and Clinicians; 93.272, Alcohol National Research Service Awards for Research Training; 93.273, Alcohol Research Program; 93.891, Alcohol Research Center Grants, National Institutes of Health, HHS)

Dated: July 25, 2005.
Anthony M. Coelho, Jr.,
Acting Director, Office of Federal Advisory Committee Policy.

[FR Doc. 05-15087 Filed 7-28-05; 8:45 am]

BILLING CODE 4140-01-M